LIBRARY OF CONGRESS

Copyright Office

[Docket No. 2011-3]

Notice of Public Meeting: Technical Aspects of Mandatory Deposit of Published Electronic Works Available Only Online

AGENCY: U.S. Copyright Office, Library of Congress.

ACTION: Notice of public meeting.

SUMMARY: The U.S. Copyright Office of the Library of Congress will host a public meeting on May 24, 2011, with members of the publishing community to discuss lessons learned from the Office's receipt of electronic deposits in fulfillment of the mandatory deposit requirements of the copyright law. The objective is to identify file submission, packaging, and formatting standards that can effectively and efficiently be adapted to the workflow requirements for both the publishing community and the Library of Congress.

DATES: The public meeting will take place on Tuesday, May 24, 2011, from 9 a.m. to 4 p.m. Responses by parties interested in participating are due by 5 p.m. May 11, 2011.

ADDRESSES: The public meeting will take place in the Copyright Hearing Room of the Madison Building of the Library of Congress, LM-408, 101 Independence Ave., SE., 20059. With respect to the notices of participation, the Copyright Office strongly prefers that responses be submitted electronically. Notices of participation with the required information should be sent to cad@loc.gov.

FOR FURTHER INFORMATION CONTACT: Jewel Player, Chief, Copyright Acquisitions Division. Telephone (202) 707-7125; Telefax (202) 707-4435.

SUPPLEMENTARY INFORMATION: On January 25, 2010, the Copyright Office adopted an interim regulation governing the mandatory deposit of published electronic works available only on-line. 75 FR 3863 (January 25, 2010). This regulation permits the Copyright Office to acquire, on behalf of the Library of Congress, electronic works published only online and available exclusively in electronic formats. Prior to this regulation, all online-only works were exempt from the mandatory deposit provisions of the copyright law.

Under the interim regulation, certain works available only online, i.e., electronic serials, are now subject to the mandatory deposit requirement but only to the extent the Copyright Office issues a demand notice for the works. Once the Copyright Office and the Library of Congress have gained experience with ingesting digital works, additional categories of electronic works published only online will be added to the list.

On September 1, 2010, the Copyright Office, on behalf of the Library of Congress, issued its first mandatory deposit notice for works published only online. To date, 30 publishers have received demand notices for a total of 85 online-only titles. These 30 publishers represent a cross section of the community, including large commercial publishers, small commercial publishers, academic institutions, and open access as well as subscription based titles.

The online-only deposit amendment was issued as an “interim” regulation because the Copyright Office foresaw that “the experience of issuing and responding to demands for online-only works will raise additional issues that should be considered before the regulation becomes final, e.g., the technical details of how an online-only work should be transmitted to the Copyright Office.” 75 FR 3864 (January 25, 2010). The experience of the Copyright Office thus far is that every submission has been unique. Although suggested submission instructions were provided, no two publishers have transmitted, packaged or formatted their files in the same manner. Needless to say this has created tremendous technical challenges not only for the Library of Congress but also for the publishers responding to the demand notices.

In response to these multiple transmission, packaging, and formatting issues, the Copyright Office will be hosting a public working session to discuss the packaging and submission processes to fulfill a mandatory deposit demand for an electronic work. The goal is to identify a maximum of five possible packaging standards, transmission protocols, and file structures that will work for the publishing community as well as for the Office and the Library. The participants should represent all segments of the serial publishing community, such as publishers, aggregators, abstract and indexing services, journal hosting services, software developers, file conversion services, file archiving services, and organizations focusing on library and electronic information standards. We encourage these groups to send representatives to the meeting to foster a well-informed discussion of the issues.

Limits on participation: Due to space constraints, we regret that we cannot accommodate more than two representatives per organization. We ask that one of these representatives be well-versed in your organization's technical and workflow requirements related to content production, file formats, file naming conventions, metadata, file transmission, and file packaging guidelines.

Notice of participation: A notice to participate in the meeting must be filed no later than 5 p.m. on May 11, 2011. Each notice should be submitted by e-mail to cad@loc.gov and include the following information for each participant: name, organization, title, postal mailing address, telephone, telefax, and an e-mail address. To avoid spam blocks, all participants should add cad@loc.gov to their address books. This will assure that you receive additional information related to the meeting. Persons who are unable to send requests via the preferred approach should contact Jewel Player, Chief, Copyright Acquisitions Division, at (202) 707-7125.

Dated: April 8, 2011.
Maria A. Pallante,
Acting Register of Copyrights.

[FR Doc. 2011-9013 Filed 4-13-11; 8:45 am]

BILLING CODE 1410-30-P